DEPARTMENT OF LABOR

Employment and Training Administration

Employment and Training Administration Program Year (PY) 2011 Allotments for the Workforce Investment Act (WIA), Section 166, Indian and Native American Program

AGENCY: Employment and Training Administration (ETA), Labor.

ACTION: Notice.

SUMMARY: This Notice announces final allotments for PY 2011 for the WIA, Section 166 program. The WIA allotments for the Section 166 program are based on formulas defined at 20 CFR 668.296 and 20 CFR 668.440.

DATES: This Notice is effective on June 8, 2011.

FOR FURTHER INFORMATION CONTACT: Evangeline Campbell at (202) 693-3737.

SUPPLEMENTARY INFORMATION: The Department of Labor (the Department) is announcing WIA final allotments for PY 2011 for the Section 166 program. This Notice provides information on the amount of funds available during PY 2011 to WIA Section 166 grantees with an approved plan for PY 2011.

The allotments are based on the funds appropriated in the Full-Year Continuing Appropriations Act, 2011, Public Law (Pub. L.) 112-10, signed April 15, 2011. This appropriation requires an across-the-board rescission of 0.2 percent to all Federal Fiscal Year (FY) 2011 discretionary funding for the programs covered by this TEGL. Included below are tables listing the PY 2011 allotments (including the 0.2 percent rescission) for the WIA Section 166 Supplemental Youth Service Program (Table A—youth) and the Comprehensive Service Program (Table B—adult).

Pursuant to the Indian Employment and Training and Related Services Demonstration Act of 1992 (Pub. L. 102-477), federally recognized tribes and Native Alaska entities can integrate employment and training and related services into a single program which is administered by the U.S. Department of Interior (DOI). Fifty-four WIA Section 166 grantees participate in the Public Law 102-477 program. The funding allotments and administrative oversight for these 54 grants are transferred to the DOI. For PY 2011, a total of $4,042,359 in WIA youth funding and $10,026,102 in WIA adult funding will be transferred to the DOI. Public Law 102-477 grant allotments are identified in the “Grant Type” column in tables A and B.

WIA Section 166- Supplemental Youth Service Program (Youth) Allotments. The Full-Year Continuing Appropriations Act made available to the Department $825,914 million for training and employment services for WIA Youth Activities. Under the WIA, Employment and Training Administration (ETA) will reserve 1.5 percent of funds appropriated for youth activities to make available $12,388,708 for the WIA Section 166, Indian and Native American Supplement Youth Service program. This is $1,472, 327 less than PY 2010 and represents a 10.6 percent overall decrease from PY 2010 (including the 0.2 percent rescission). Table A includes a breakdown of the WIA Section 166 youth program allotments for PY 2011 and provides a comparison to PY 2010 youth allotments. In determining the youth allotments for individual grantees, the Department used the formula calculation provided at 20 CFR 668.440 of the WIA regulations which states:

(a) Beginning with PY 2000, supplemental youth funding will be allocated to eligible INA grantees on the basis of the relative number of Native American youth between the ages of 14 and 21, inclusive, in the grantee's designated INA service area as compared to the number of Native American youth in other eligible INA service areas.

WIA Section 166- Comprehensive Service Program (Adult) Allotments. PY 2011 WIA Section 166 adult funds total $52,652,484 (including the 0.2 percent rescission). Table B includes a breakdown of the WIA Section 166 adult program allotments for PY 2011 and provides a comparison to PY 2010 adult allotments. Prior to allocating the full appropriation to INA grantees, the Department—in consultation with the Native American Employment and Training Council—reserved 1 percent ($526,525) for technical assistance and training purposes pursuant to WIA regulation at 20 CFR 668.296(e). Therefore, the amount available for allocation to INA grantees is $52,125,959. In determining the adult allotments, the Department used the formula calculation provided at 20 CFR 668.296(b) of the WIA regulations which states:

(b) Each INA grantee will receive the sum of the funds calculated under the following formula:

(1) One-quarter of the funds available will be allocated on the basis of the number of unemployed Native American persons in the grantee's designated INA service area(s) compared to all such persons in all such areas in the United States.

(2) Three-quarters of the funds available will be allocated on the basis of the number of Native American persons in poverty in the grantee's designated INA service area(s) as compared to all such persons in all such areas in the United States.

(3) The data and definitions used to implement these formulas are provided by the U.S. Bureau of the Census.

Census 2000 data was used to calculate the WIA Section 166 PY 2011 allotments. ETA continues to work with the Census Bureau regarding the American Community Survey and updated data are not available at this time. ETA will consult with WIA Section 166 grantees when new data is available for use in calculating allocation formulas.

Signed in Washington, DC on this 2nd day of June 2011.
Jane Oates,
Assistant Secretary, Employment and Training Administration

Table A—Employment and Training Activities Native American, Section 166, WIA Youth Program Comparison of PY 2011 Vs PY 2010
[U.S. Department of Labor]
State | Grantee Name | Grant Type | PY 2010 | PY 2011 | Difference | % Diff
Total |  | $13,861,035 | $12,388,708 | ($1,472,327) | −10.60%
AL | Inter-Tribal Council of Alabama |  | $5,098.00 | $4,556.00 | ($542) | −10.60%
AK | Aleutian/Pribilof Islands Association | 477 | $12,073.00 | $10,791.00 | ($1,282) | −10.60%
AK | Association of Village Council Presidents | 477 | $165,274.00 | $147,718.00 | ($17,556) | −10.60%
AK | Bristol Bay Native Association | 477 | $48,294.00 | $43,164.00 | ($5,130) | −10.60%
AK | Central Council of Tlingit and Haida | 477 | $68,417.00 | $61,150.00 | ($7,267) | −10.60%
AK | Chugachmiut | 477 | $5,902.00 | $5,275.00 | ($627) | −10.60%
AK | Cook Inlet Tribal Council | 477 | $147,030.00 | $131,412.00 | ($15,618) | −10.60%
AK | Copper River Native Association | 477 | $9,390.00 | $8,393.00 | ($997) | −10.60%
AK | Kawerak Incorporated | 477 | $60,368.00 | $53,955.00 | ($6,413) | −10.60%
AK | Kenaitze Indian Tribe |  | $22,806.00 | $20,383.00 | ($2,423) | −10.60%
AK | Kodiak Area Native Association | 477 | $9,390.00 | $8,393.00 | ($997) | −10.60%
AK | Maniilaq Association Inc. | 477 | $52,319.00 | $46,761.00 | ($5,558) | −10.60%
AK | Metlakatla Indian Community | 477 | $5,366.00 | $4,796.00 | ($570) | −10.60%
AK | Orutsararmuit Native Council | 477 | $16,098.00 | $14,388.00 | ($1,710) | −10.60%
AK | Tanana Chiefs Conference, Inc. | 477 | $114,028.00 | $101,916.00 | ($12,112) | −10.60%
AZ | Colorado River Indian Tribes |  | $32,196.00 | $28,777.00 | ($3,419) | −10.60%
AZ | Gila River Indian Community |  | $211,959.00 | $189,444.00 | ($22,515) | −10.60%
AZ | Hopi Tribal Council |  | $118,053.00 | $105,514.00 | ($12,539) | −10.60%
AZ | Hualapai Tribe |  | $20,123.00 | $17,985.00 | ($2,138) | −10.60%
AZ | Inter Tribal Council of Arizona, Inc. |  | $38,367.00 | $34,292.00 | ($4,075) | −10.60%
AZ | Navajo Nation |  | $3,077,429.00 | $2,750,542.00 | ($326,887) | −10.60%
AZ | Pasqua Yaqui Tribe |  | $55,002.00 | $49,160.00 | ($5,842) | −10.60%
AZ | Quechan Indian Tribe |  | $17,440.00 | $15,587.00 | ($1,853) | −10.60%
AZ | Salt River Pima-Maricopa Indian Community |  | $52,319.00 | $46,761.00 | ($5,558) | −10.60%
AZ | San Carlos Apache Tribe |  | $222,691.00 | $199,036.00 | ($23,655) | −10.60%
AZ | Tohono O'Odham Nation | 477 | $224,033.00 | $200,236.00 | ($23,797) | −10.60%
AZ | White Mountain Apache Tribe |  | $266,961.00 | $238,604.00 | ($28,357) | −10.60%
CA | California Indian Manpower Consortium |  | $111,614.00 | $99,758.00 | ($11,856) | −10.60%
CA | Northern CA Indian Development Council |  | $61,978.00 | $55,395.00 | ($6,583) | −10.60%
CA | Tule River Tribal Council |  | $8,050.00 | $7,194.00 | ($856) | −10.60%
CO | Southern Ute Indian Tribe |  | $10,732.00 | $9,593.00 | ($1,139) | −10.60%
CO | Ute Mountain Ute Indian Tribe |  | $22,806.00 | $20,383.00 | ($2,423) | −10.60%
FL | Miccosukee Corporation |  | $5,634.00 | $5,036.00 | ($598) | −10.60%
HI | Alu Like, Inc. |  | $1,875,434.00 | $1,676,224.00 | ($199,210) | −10.60%
ID | Nez Perce Tribe | 477 | $15,561.00 | $13,909.00 | ($1,652) | −10.60%
ID | Shoshone-Bannock Tribes | 477 | $57,685.00 | $51,558.00 | ($6,127) | −10.60%
KS | United Tribes of Kansas and S.E. Nebraska |  | $10,464.00 | $9,352.00 | ($1,112) | −10.60%
LA | Inter-Tribal Council of Louisiana, Inc. |  | $4,025.00 | $3,597.00 | ($428) | −10.60%
ME | Penobscot Nation |  | $25,221.00 | $22,542.00 | ($2,679) | −10.60%
MI | Inter-Tribal Council of Michigan, Inc. |  | $29,513.00 | $26,378.00 | ($3,135) | −10.60%
MI | Sault Ste. Marie Tribe of Chippewa Indians |  | $19,586.00 | $17,506.00 | ($2,080) | −10.60%
MN | Bois Forte R.B.C. |  | $9,123.00 | $8,154.00 | ($969) | −10.60%
MN | Fond Du Lac R.B.C. |  | $18,244.00 | $16,307.00 | ($1,937) | −10.60%
MN | Leech Lake R.B.C. |  | $53,392.00 | $47,721.00 | ($5,671) | −10.60%
MN | Mille Lacs Band of Chippewa Indians | 477 | $23,879.00 | $21,342.00 | ($2,537) | −10.60%
MN | Red Lake Tribal Council | 477 | $84,515.00 | $75,538.00 | ($8,977) | −10.60%
MN | White Earth R.B.C. | 477 | $55,002.00 | $49,160.00 | ($5,842) | −10.60%
MS | Mississippi Band of Choctaw Indians |  | $68,149.00 | $60,910.00 | ($7,239) | −10.60%
MO | American Indian Council |  | $9,390.00 | $8,393.00 | ($997) | −10.60%
MT | Assiniboine & Sioux Tribes | 477 | $138,176.00 | $123,499.00 | ($14,677) | −10.60%
MT | B.C. of the Chippewa Cree Tribe |  | $38,904.00 | $34,771.00 | ($4,133) | −10.60%
MT | Blackfeet Tribal Business Council | 477 | $127,443.00 | $113,906.00 | ($13,537) | −10.60%
MT | Confederated Salish & Kootenai Tribes | 477 | $139,518.00 | $124,698.00 | ($14,820) | −10.60%
MT | Crow Indian Tribe |  | $88,272.00 | $78,895.00 | ($9,377) | −10.60%
MT | Fort Belknap Indian Community | 477 | $50,977.00 | $45,563.00 | ($5,414) | −10.60%
MT | Northern Cheyenne Tribe |  | $99,272.00 | $88,727.00 | ($10,545) | −10.60%
NE | Omaha Tribe of Nebraska |  | $46,953.00 | $41,965.00 | ($4,988) | −10.60%
NE | Winnebago Tribe | 477 | $21,464.00 | $19,184.00 | ($2,280) | −10.60%
NV | Inter-Tribal Council of Nevada |  | $49,099.00 | $43,884.00 | ($5,215) | −10.60%
NV | Reno Sparks Indian Colony | 477 | $9,390.00 | $8,393.00 | ($997) | −10.60%
NV | Shoshone-Paiute Tribes | 477 | $14,757.00 | $13,189.00 | ($1,568) | −10.60%
NM | Alamo Navajo School Board |  | $49,636.00 | $44,364.00 | ($5,272) | −10.60%
NM | Eight Northern Indian Pueblo Council |  | $13,952.00 | $12,470.00 | ($1,482) | −10.60%
NM | Five Sandoval Indian Pueblos, Inc. |  | $93,638.00 | $83,692.00 | ($9,946) | −10.60%
NM | Jicarilla Apache Tribe |  | $28,171.00 | $25,180.00 | ($2,991) | −10.60%
NM | Mescalero Apache Tribe |  | $61,709.00 | $55,155.00 | ($6,554) | −10.60%
NM | Ohkay Owingeh | 477 | $13,415.00 | $11,990.00 | ($1,425) | −10.60%
NM | Pueblo of Acoma |  | $30,855.00 | $27,577.00 | ($3,278) | −10.60%
NM | Pueblo of Isleta |  | $11,805.00 | $10,551.00 | ($1,254) | −10.60%
NM | Pueblo of Laguna | 477 | $37,563.00 | $33,573.00 | ($3,990) | −10.60%
NM | Pueblo of Taos | 477 | $18,781.00 | $16,786.00 | ($1,995) | −10.60%
NM | Pueblo of Zuni | 477 | $130,126.00 | $116,305.00 | ($13,821) | −10.60%
NM | Ramah Navajo School Board, Inc. |  | $30,855.00 | $27,577.00 | ($3,278) | −10.60%
NM | Santa Clara Indian Pueblo |  | $13,415.00 | $11,990.00 | ($1,425) | −10.60%
NM | Santo Domingo Tribe |  | $45,611.00 | $40,767.00 | ($4,844) | −10.60%
NY | American Indian Community House, Inc. |  | $9,123.00 | $8,154.00 | ($969) | −10.60%
NY | Native American Cultural Center, Inc. |  | $3,219.00 | $2,878.00 | ($341) | −10.60%
NY | Seneca Nation of Indians | 477 | $32,196.00 | $28,777.00 | ($3,419) | −10.60%
NY | St. Regis Mohawk Tribe |  | $22,806.00 | $20,383.00 | ($2,423) | −10.60%
NC | Eastern Band of Cherokee Indians |  | $57,685.00 | $51,558.00 | ($6,127) | −10.60%
ND | Spirit Lake Sioux Tribe | 477 | $75,125.00 | $67,145.00 | ($7,980) | −10.60%
ND | Standing Rock Sioux Tribe |  | $124,761.00 | $111,508.00 | ($13,253) | −10.60%
ND | Three Affiliated Tribes | 477 | $56,344.00 | $50,358.00 | ($5,986) | −10.60%
ND | Turtle Mountain Band of Chippewa Indians |  | $128,785.00 | $115,105.00 | ($13,680) | −10.60%
OK | Absentee Shawnee Tribe of Oklahoma |  | $13,146.00 | $11,751.00 | ($1,395) | −10.60%
OK | Cherokee Nation of Oklahoma | 477 | $677,732.00 | $605,743.00 | ($71,989) | −10.60%
OK | Cheyenne-Arapaho Tribes |  | $104,638.00 | $93,524.00 | ($11,114) | −10.60%
OK | Chickasaw Nation of Oklahoma | 477 | $203,641.00 | $182,011.00 | ($21,630) | −10.60%
OK | Choctaw Nation of Oklahoma | 477 | $292,450.00 | $261,385.00 | ($31,065) | −10.60%
OK | Citizen Potawatomi Nation | 477 | $219,740.00 | $196,398.00 | ($23,342) | −10.60%
OK | Comanche Tribe of Oklahoma |  | $72,442.00 | $64,747.00 | ($7,695) | −10.60%
OK | Creek Nation of Oklahoma | 477 | $356,842.00 | $318,938.00 | ($37,904) | −10.60%
OK | Four Tribes Consortium of Oklahoma |  | $68,149.00 | $60,910.00 | ($7,239) | −10.60%
OK | Inter-Tribal Council of N.E. Oklahoma |  | $27,098.00 | $24,220.00 | ($2,878) | −10.60%
OK | Kiowa Tribe of Oklahoma |  | $90,418.00 | $80,814.00 | ($9,604) | −10.60%
OK | Osage Tribal Council | 477 | $52,319.00 | $46,761.00 | ($5,558) | −10.60%
OK | OTOE-Missouria Tribe of Oklahoma |  | $16,903.00 | $15,107.00 | ($1,796) | −10.60%
OK | Pawnee Tribe of Oklahoma | 477 | $14,757.00 | $13,189.00 | ($1,568) | −10.60%
OK | Ponca Tribe of Oklahoma |  | $56,075.00 | $50,119.00 | ($5,956) | −10.60%
OK | Seminole Nation of Oklahoma |  | $72,442.00 | $64,747.00 | ($7,695) | −10.60%
OK | Tonkawa Tribe of Oklahoma |  | $28,171.00 | $25,180.00 | ($2,991) | −10.60%
OK | United Urban Indian Council, Inc. |  | $199,885.00 | $178,653.00 | ($21,232) | −10.60%
OR | Confed. Tribes of Siletz Indians of Orego | 477 | $1,073.00 | $959.00 | ($114) | −10.60%
OR | Confed. Tribes of the Umatilla Indian Res | 477 | $14,757.00 | $13,189.00 | ($1,568) | −10.60%
OR | Confederated Tribes of Warm Springs |  | $41,587.00 | $37,170.00 | ($4,417) | −10.60%
OR | Organization of Forgotten Americans |  | $6,171.00 | $5,516.00 | ($655) | −10.60%
SC | South Carolina Indian Development Council, Inc. |  | $2,683.00 | $2,398.00 | ($285) | −10.60%
SD | Cheyenne River Sioux Tribe | 477 | $142,201.00 | $127,096.00 | ($15,105) | −10.60%
SD | Lower Brule Sioux Tribe |  | $20,123.00 | $17,985.00 | ($2,138) | −10.60%
SD | Oglala Sioux Tribe |  | $417,210.00 | $372,893.00 | ($44,317) | −10.60%
SD | Rosebud Sioux Tribe | 477 | $245,496.00 | $219,420.00 | ($26,076) | −10.60%
SD | Sisseton-Wahpeton Sioux Tribe | 477 | $59,026.00 | $52,757.00 | ($6,269) | −10.60%
SD | United Sioux Tribe Development Corp. |  | $13,415.00 | $11,990.00 | ($1,425) | −10.60%
SD | Yankton Sioux Tribe |  | $53,661.00 | $47,961.00 | ($5,700) | −10.60%
TX | Alabama-Coushatta Indian Tribal Council |  | $1,073.00 | $959.00 | ($114) | −10.60%
TX | Ysleta del Sur Pueblo |  | $17,440.00 | $15,587.00 | ($1,853) | −10.60%
UT | Indian Training & Education Center |  | $5,902.00 | $5,275.00 | ($627) | −10.60%
UT | Ute Indian Tribe |  | $60,368.00 | $53,955.00 | ($6,413) | −10.60%
WA | American Indian Community Center |  | $18,244.00 | $16,307.00 | ($1,937) | −10.60%
WA | Colville Confederated Tribes | 477 | $49,636.00 | $44,364.00 | ($5,272) | −10.60%
WA | Confederated Tribes & Bands of the Yakama Nation |  | $109,736.00 | $98,079.00 | ($11,657) | −10.60%
WA | Lummi Indian Business Council |  | $26,830.00 | $23,980.00 | ($2,850) | −10.60%
WA | Makah Tribal Council | 477 | $13,415.00 | $11,990.00 | ($1,425) | −10.60%
WA | Puyallup Tribe of Indians |  | $14,488.00 | $12,949.00 | ($1,539) | −10.60%
WA | Spokane Reservation | 477 | $24,148.00 | $21,583.00 | ($2,565) | −10.60%
WA | The Tulalip Tribes | 477 | $21,464.00 | $19,184.00 | ($2,280) | −10.60%
WA | Western WA Indian Employment and Training Program |  | $78,613.00 | $70,263.00 | ($8,350) | −10.60%
WI | Ho-Chunk Nation | 477 | $4,829.00 | $4,316.00 | ($513) | −10.60%
WI | Lac Courte Oreilles Tribal Governing Board |  | $33,538.00 | $29,975.00 | ($3,563) | −10.60%
WI | Lac Du Flambeau Band of Lake Superior Chippewa |  | $12,073.00 | $10,791.00 | ($1,282) | −10.60%
WI | Menominee Indian Tribe of Wisconsin | 477 | $49,636.00 | $44,364.00 | ($5,272) | −10.60%
WI | Oneida Tribe of Indians of WI, Inc. |  | $16,098.00 | $14,388.00 | ($1,710) | −10.60%
WI | Stockbridge-Munsee Community | 477 | $3,756.00 | $3,357.00 | ($399) | −10.60%
WI | Wisconsin Indian Consortium |  | $26,562.00 | $23,741.00 | ($2,821) | −10.60%
WY | Eastern Shoshone Tribe | 477 | $35,952.00 | $32,134.00 | ($3,818) | −10.60%
WY | Northern Arapaho Business Council |  | $80,759.00 | $72,180.00 | ($8,579) | −10.60%

Table B—Employment and Training Activities Native American, Section 166, WIA Adult Program Comparison of PY 2011 Vs PY 2010
[U.S. Department of Labor]
State | Grantee Name | Grant Type | PY 2010 | PY 2011 | Difference | % Diff
Total |  | $52,230,420 | $52,125,959 | ($104,461) | −0.2%
AL | Inter-Tribal Council of Alabama |  | $277,190.00 | $276,637.00 | ($553.00) | −0.2%
AL | Poarch Band of Creek Indians |  | $88,865.00 | $88,688.00 | ($177.00) | −0.2%
AK | Aleutian/Pribilof Islands Association | 477 | $26,928.00 | $26,875.00 | ($53.00) | −0.2%
AK | Association of Village Council Presidents | 477 | $386,373.00 | $385,601.00 | ($772.00) | −0.2%
AK | Bristol Bay Native Association | 477 | $111,316.00 | $111,093.00 | ($223.00) | −0.2%
AK | Central Council of Tlingit and Haida | 477 | $181,928.00 | $181,564.00 | ($364.00) | −0.2%
AK | Chugachmiut | 477 | $26,237.00 | $26,184.00 | ($53.00) | −0.2%
AK | Cook Inlet Tribal Council | 477 | $416,590.00 | $415,757.00 | ($833.00) | −0.2%
AK | Copper River Native Association | 477 | $17,627.00 | $17,592.00 | ($35.00) | −0.2%
AK | Kawerak Incorporated | 477 | $144,916.00 | $144,626.00 | ($290.00) | −0.2%
AK | Kenaitze Indian Tribe |  | $41,637.00 | $41,553.00 | ($84.00) | −0.2%
AK | Kodiak Area Native Association | 477 | $27,362.00 | $27,307.00 | ($55.00) | −0.2%
AK | Maniilaq Association | 477 | $108,540.00 | $108,323.00 | ($217.00) | −0.2%
AK | Metlakatla Indian Community | 477 | $17,554.00 | $17,519.00 | ($35.00) | −0.2%
AK | Orutsararmuit Native Council | 477 | $49,720.00 | $49,621.00 | ($99.00) | −0.2%
AK | Tanana Chiefs Conference, Inc. | 477 | $272,815.00 | $272,269.00 | ($546.00) | −0.2%
AZ | American Indian Association of Tucson |  | $325,398.00 | $324,747.00 | ($651.00) | −0.2%
AZ | Colorado River Indian Tribes |  | $59,581.00 | $59,462.00 | ($119.00) | −0.2%
AZ | Gila River Indian Community |  | $491,148.00 | $490,166.00 | ($982.00) | −0.2%
AZ | Hopi Tribal Council |  | $209,160.00 | $208,741.00 | ($419.00) | −0.2%
AZ | Hualapai Tribe |  | $31,340.00 | $31,278.00 | ($62.00) | −0.2%
AZ | Inter Tribal Council of Arizona, Inc. |  | $76,735.00 | $76,581.00 | ($154.00) | −0.2%
AZ | Native Americans for Community Action |  | $190,197.00 | $189,816.00 | ($381.00) | −0.2%
AZ | Navajo Nation |  | $5,866,074.00 | $5,854,341.00 | ($11,733.00) | −0.2%
AZ | Pasqua Yaqui Tribe |  | $96,703.00 | $96,510.00 | ($193.00) | −0.2%
AZ | Phoenix Indian Center, Inc. |  | $1,182,685.00 | $1,180,320.00 | ($2,365.00) | −0.2%
AZ | Quechan Indian Tribe |  | $32,332.00 | $32,268.00 | ($64.00) | −0.2%
AZ | Salt River Pima-Maricopa Indian Community |  | $81,466.00 | $81,302.00 | ($164.00) | −0.2%
AZ | San Carlos Apache Tribe |  | $370,912.00 | $370,171.00 | ($741.00) | −0.2%
AZ | Tohono O'Odham Nation | 477 | $356,687.00 | $355,973.00 | ($714.00) | −0.2%
AZ | White Mountain Apache Tribe |  | $436,921.00 | $436,047.00 | ($874.00) | −0.2%
AR | American Indian Center of Arkansas, Inc. |  | $306,678.00 | $306,065.00 | ($613.00) | −0.2%
CA | California Indian Manpower Consortium |  | $3,205,990.00 | $3,199,577.00 | ($6,413.00) | −0.2%
CA | Candelaria American Indian Council |  | $308,677.00 | $308,060.00 | ($617.00) | −0.2%
CA | Indian Human Resources Center, Inc. |  | $323,540.00 | $322,893.00 | ($647.00) | −0.2%
CA | Northern CA Indian Development Council |  | $288,094.00 | $287,517.00 | ($577.00) | −0.2%
CA | Southern CA Indian Center, Inc. |  | $1,580,742.00 | $1,577,580.00 | ($3,162.00) | −0.2%
CA | Tule River Tribal Council |  | $117,970.00 | $117,734.00 | ($236.00) | −0.2%
CA | United Indian Nations, Inc. |  | $424,584.00 | $423,734.00 | ($850.00) | −0.2%
CA | Ya-Ka-Ama Indian Education & Development |  | $60,253.00 | $60,133.00 | ($120.00) | −0.2%
CO | Denver Indian Center |  | $598,091.00 | $596,895.00 | ($1,196.00) | −0.2%
CO | Southern Ute Indian Tribe |  | $36,038.00 | $35,966.00 | ($72.00) | −0.2%
CO | Ute Mountain Ute Indian Tribe |  | $83,054.00 | $82,887.00 | ($167.00) | −0.2%
FL | Florida Governor's Council on Indian Affairs |  | $1,098,961.00 | $1,096,763.00 | ($2,198.00) | −0.2%
FL | Miccosukee Corporation |  | $114,430.00 | $114,201.00 | ($229.00) | −0.2%
HI | Alu Like, Inc. |  | $1,266,654.00 | $1,264,120.00 | ($2,534.00) | −0.2%
ID | Nez Perce Tribe | 477 | $65,991.00 | $65,860.00 | ($131.00) | −0.2%
ID | Shoshone-Bannock Tribes | 477 | $171,425.00 | $171,082.00 | ($343.00) | −0.2%
IN | American Indian Center of Indiana, Inc. |  | $226,289.00 | $225,837.00 | ($452.00) | −0.2%
KS | United Tribes of Kansas and S.E. Nebraska |  | $191,961.00 | $191,577.00 | ($384.00) | −0.2%
LA | Inter-Tribal Council of Louisiana, Inc. |  | $465,403.00 | $464,472.00 | ($931.00) | −0.2%
ME | Penobscot Nation |  | $180,349.00 | $179,988.00 | ($361.00) | −0.2%
MA | Mashpee-Wampanoag Indian Tribal Council, Inc. |  | $55,496.00 | $55,386.00 | ($110.00) | −0.2%
MA | North American Indian Center of Boston |  | $200,916.00 | $200,515.00 | ($401.00) | −0.2%
MI | Grand Traverse Band of Ottawa & Chippewa Indians | 477 | $29,656.00 | $29,596.00 | ($60.00) | −0.2%
MI | Inter-Tribal Council of Michigan, Inc. |  | $64,599.00 | $64,469.00 | ($130.00) | −0.2%
MI | MI Indian Employment and Training Services, Inc. |  | $441,645.00 | $440,762.00 | ($883.00) | −0.2%
MI | North American Indian Association of Detroit |  | $131,715.00 | $131,452.00 | ($263.00) | −0.2%
MI | Potawatomi Indian Nation |  | $57,364.00 | $57,249.00 | ($115.00) | −0.2%
MI | Sault Ste. Marie Tribe of Chippewa Indians |  | $157,849.00 | $157,533.00 | ($316.00) | −0.2%
MI | Southeastern Michigan Indians. Inc. |  | $70,470.00 | $70,328.00 | ($142.00) | −0.2%
MN | American Indian OIC |  | $246,186.00 | $245,693.00 | ($493.00) | −0.2%
MN | Bois Forte R.B.C. |  | $18,822.00 | $18,785.00 | ($37.00) | −0.2%
MN | Fond Du Lac R.B.C. |  | $183,645.00 | $183,278.00 | ($367.00) | −0.2%
MN | Leech Lake R.B.C. |  | $141,644.00 | $141,362.00 | ($282.00) | −0.2%
MN | Mille Lacs Band of Chippewa Indians | 477 | $50,990.00 | $50,887.00 | ($103.00) | −0.2%
MN | Minneapolis American Indian Center |  | $326,775.00 | $326,121.00 | ($654.00) | −0.2%
MN | Red Lake Tribal Council | 477 | $205,262.00 | $204,852.00 | ($410.00) | −0.2%
MN | White Earth R.B.C. | 477 | $111,452.00 | $111,230.00 | ($222.00) | −0.2%
MS | Mississippi Band of Choctaw Indians |  | $277,614.00 | $277,058.00 | ($556.00) | −0.2%
MO | American Indian Council |  | $682,505.00 | $681,140.00 | ($1,364.00) | −0.2%
MT | Assiniboine & Sioux Tribes | 477 | $252,600.00 | $252,095.00 | ($505.00) | −0.2%
MT | B.C. of the Chippewa Cree Tribe |  | $130,561.00 | $130,299.00 | ($262.00) | −0.2%
MT | Blackfeet Tribal Business Council | 477 | $265,919.00 | $265,387.00 | ($532.00) | −0.2%
MT | Confederated Salish & Kootenai Tribes | 477 | $261,358.00 | $260,835.00 | ($523.00) | −0.2%
MT | Crow Indian Tribe |  | $152,184.00 | $151,880.00 | ($304.00) | −0.2%
MT | Fort Belknap Indian Community | 477 | $112,879.00 | $112,653.00 | ($226.00) | −0.2%
MT | Montana United Indian Association |  | $317,280.00 | $316,646.00 | ($634.00) | −0.2%
MT | Northern Cheyenne Tribe |  | $197,817.00 | $197,422.00 | ($395.00) | −0.2%
NE | Indian Center, Inc. |  | $261,692.00 | $261,168.00 | ($524.00) | −0.2%
NE | Omaha Tribe of Nebraska |  | $73,297.00 | $73,150.00 | ($147.00) | −0.2%
NE | Winnebago Tribe | 477 | $41,413.00 | $41,330.00 | ($83.00) | −0.2%
NV | Inter-Tribal Council of Nevada |  | $261,813.00 | $261,290.00 | ($523.00) | −0.2%
NV | Las Vegas Indian Center, Inc. |  | $176,700.00 | $176,347.00 | ($353.00) | −0.2%
NV | Reno Sparks Indian Colony | 477 | $15,716.00 | $15,684.00 | ($32.00) | −0.2%
NV | Shoshone-Paiute Tribes | 477 | $112,911.00 | $112,685.00 | ($226.00) | −0.2%
NM | Alamo Navajo School Board |  | $82,440.00 | $82,274.00 | ($166.00) | −0.2%
NM | Eight Northern Indian Pueblo Council |  | $37,862.00 | $37,785.00 | ($77.00) | −0.2%
NM | Five Sandoval Indian Pueblos, Inc. |  | $141,700.00 | $141,417.00 | ($283.00) | −0.2%
NM | Jicarilla Apache Tribe |  | $57,128.00 | $57,015.00 | ($113.00) | −0.2%
NM | Mescalero Apache Tribe |  | $81,079.00 | $80,917.00 | ($162.00) | −0.2%
NM | National Indian Youth Council |  | $1,480,573.00 | $1,477,611.00 | ($2,962.00) | −0.2%
NM | Ohkay Owingeh | 477 | $24,668.00 | $24,618.00 | ($50.00) | −0.2%
NM | Pueblo of Acoma |  | $125,954.00 | $125,703.00 | ($251.00) | −0.2%
NM | Pueblo of Isleta |  | $36,910.00 | $36,835.00 | ($75.00) | −0.2%
NM | Pueblo of Laguna | 477 | $80,675.00 | $80,514.00 | ($161.00) | −0.2%
NM | Pueblo of Taos | 477 | $37,663.00 | $37,588.00 | ($75.00) | −0.2%
NM | Pueblo of Zuni | 477 | $263,696.00 | $263,169.00 | ($527.00) | −0.2%
NM | Ramah Navajo School Board, Inc. |  | $83,337.00 | $83,170.00 | ($167.00) | −0.2%
NM | Santa Clara Indian Pueblo |  | $30,010.00 | $29,949.00 | ($61.00) | −0.2%
NM | Santo Domingo Tribe |  | $92,659.00 | $92,474.00 | ($185.00) | −0.2%
NY | American Indian Community House, Inc. |  | $1,064,583.00 | $1,062,453.00 | ($2,130.00) | −0.2%
NY | Native Am. Comm. Services of Erie & Niagara Co |  | $147,302.00 | $147,008.00 | ($294.00) | −0.2%
NY | Native American Cultural Center, Inc. |  | $192,256.00 | $191,871.00 | ($385.00) | −0.2%
NY | Seneca Nation of Indians | 477 | $220,100.00 | $219,659.00 | ($441.00) | −0.2%
NY | St. Regis Mohawk Tribe |  | $128,653.00 | $128,396.00 | ($257.00) | −0.2%
NC | Cumberland County Association for Indian People |  | $60,136.00 | $60,015.00 | ($121.00) | −0.2%
NC | Eastern Band of Cherokee Indians |  | $152,994.00 | $152,688.00 | ($306.00) | −0.2%
NC | Guilford Native American Association |  | $72,480.00 | $72,336.00 | ($144.00) | −0.2%
NC | Haliwa-Saponi Tribe, Inc. |  | $56,467.00 | $56,354.00 | ($113.00) | −0.2%
NC | Lumbee Regional Development Association |  | $949,302.00 | $947,402.00 | ($1,900) | −0.2%
NC | Metrolina Native American Association |  | $108,405.00 | $108,188.00 | ($217.00) | −0.2%
NC | North Carolina Commission of Indian Affairs |  | $275,085.00 | $274,534.00 | ($551.00) | −0.2%
ND | Spirit Lake Sioux Tribe | 477 | $144,464.00 | $144,176.00 | ($288.00) | −0.2%
ND | Standing Rock Sioux Tribe |  | $209,141.00 | $208,722.00 | ($419.00) | −0.2%
ND | Three Affiliated Tribes—Ft. Berthold Reservation | 477 | $174,680.00 | $174,331.00 | ($349.00) | −0.2%
ND | Turtle Mountain Band of Chippewa Indians |  | $284,761.00 | $284,191.00 | ($570.00) | −0.2%
ND | United Tribes Technical College |  | $222,882.00 | $222,437.00 | ($445.00) | −0.2%
OH | North America Indian Cultural Centers |  | $488,419.00 | $487,442.00 | ($977.00) | −0.2%
OK | Absentee Shawnee Tribe of Oklahoma |  | $21,668.00 | $21,624.00 | ($44.00) | −0.2%
OK | Cherokee Nation of Oklahoma | 477 | $1,254,875.00 | $1,252,364.00 | ($2,511.00) | −0.2%
OK | Cheyenne-Arapaho Tribes |  | $150,266.00 | $149,965.00 | ($301.00) | −0.2%
OK | Chickasaw Nation of Oklahoma | 477 | $343,500.00 | $342,813.00 | ($687.00) | −0.2%
OK | Choctaw Nation of Oklahoma | 477 | $551,732.00 | $550,629.00 | ($1,103.00) | −0.2%
OK | Citizen Potawatomi Nation | 477 | $308,057.00 | $307,441.00 | ($616.00) | −0.2%
OK | Comanche Tribe of Oklahoma |  | $146,748.00 | $146,454.00 | ($294.00) | −0.2%
OK | Creek Nation of Oklahoma | 477 | $690,089.00 | $688,710.00 | ($1,379.00) | −0.2%
OK | Four Tribes Consortium of Oklahoma |  | $92,655.00 | $92,471.00 | ($184.00) | −0.2%
OK | Inter-Tribal Council of N.E. Oklahoma |  | $71,135.00 | $70,993.00 | ($142.00) | −0.2%
OK | Kiowa Tribe of Oklahoma |  | $122,021.00 | $121,777.00 | ($244.00) | −0.2%
OK | Osage Tribal Council | 477 | $93,119.00 | $92,932.00 | ($187.00) | −0.2%
OK | OTOE-Missouria Tribe of Oklahoma |  | $31,432.00 | $31,369.00 | ($63.00) | −0.2%
OK | Pawnee Tribe of Oklahoma | 477 | $29,942.00 | $29,883.00 | ($59.00) | −0.2%
OK | Ponca Tribe of Oklahoma |  | $78,487.00 | $78,331.00 | ($156.00) | −0.2%
OK | Seminole Nation of Oklahoma |  | $95,747.00 | $95,557.00 | ($190.00) | −0.2%
OK | Tonkawa Tribe of Oklahoma |  | $59,908.00 | $59,788.00 | ($120.00) | −0.2%
OK | United Urban Indian Council, Inc. |  | $349,543.00 | $348,844.00 | ($699.00) | −0.2%
OK | Wyandotte Tribe of Oklahoma |  | $104,567.00 | $104,358.00 | ($209.00) | −0.2%
OR | Confed. Tribes of Siletz Indians of Orego | 477 | $420,150.00 | $419,310.00 | ($840.00) | −0.2%
OR | Confed. Tribes of the Umatilla Indian Res | 477 | $26,212.00 | $26,159.00 | ($53.00) | −0.2%
OR | Confederated Tribes of Warm Springs |  | $122,984.00 | $122,738.00 | ($246.00) | −0.2%
OR | Organization of Forgotten Americans |  | $284,863.00 | $284,293.00 | ($570.00) | −0.2%
PA | Council of Three Rivers |  | $898,825.00 | $897,026.00 | ($1,799.00) | −0.2%
RI | Rhode Island Indian Council |  | $608,182.00 | $606,965.00 | ($1,217.00) | −0.2%
SC | South Carolina Indian Development Council, Inc. |  | $236,031.00 | $235,560.00 | ($471.00) | −0.2%
SD | Cheyenne River Sioux Tribe | 477 | $215,629.00 | $215,198.00 | ($431.00) | −0.2%
SD | Lower Brule Sioux Tribe |  | $54,221.00 | $54,112.00 | ($109.00) | −0.2%
SD | Oglala Sioux Tribe |  | $638,927.00 | $637,650.00 | ($1,277.00) | −0.2%
SD | Rosebud Sioux Tribe | 477 | $470,403.00 | $469,462.00 | ($941.00) | −0.2%
SD | Sisseton-Wahpeton Sioux Tribe | 477 | $119,992.00 | $119,752.00 | ($240.00) | −0.2%
SD | United Sioux Tribe Development Corp. |  | $544,699.00 | $543,610.00 | ($1,089.00) | −0.2%
SD | Yankton Sioux Tribe |  | $104,221.00 | $104,013.00 | ($208.00) | −0.2%
TN | Native American Indian Association, Inc. |  | $223,014.00 | $222,568.00 | ($446.00) | −0.2%
TX | Alabama-Coushatta Indian Tribal Council |  | $846,909.00 | $845,216.00 | ($1,693.00) | −0.2%
TX | Dallas Inter-Tribal Center |  | $373,632.00 | $372,884.00 | ($748.00) | −0.2%
TX | Ysleta del Sur Pueblo |  | $627,062.00 | $625,808.00 | ($1,254.00) | −0.2%
UT | Indian Training & Education Center |  | $343,473.00 | $342,786.00 | ($687.00) | −0.2%
UT | Ute Indian Tribe |  | $114,220.00 | $113,992.00 | ($228.00) | −0.2%
VT | Abenaki Self-Help Association |  | $78,120.00 | $77,963.00 | ($157.00) | −0.2%
VA | Mattaponi Pamunkey Monacan Consortium |  | $242,655.00 | $242,171.00 | ($484.00) | −0.2%
WA | American Indian Community Center |  | $389,539.00 | $388,760.00 | ($779.00) | −0.2%
WA | Colville Confederated Tribes | 477 | $176,550.00 | $176,197.00 | ($353.00) | −0.2%
WA | Confederated Tribes & Bands of the Yakama Nation |  | $195,145.00 | $194,755.00 | ($390.00) | −0.2%
WA | Lummi Indian Business Council |  | $107,864.00 | $107,648.00 | ($216.00 | −0.2%
WA | Makah Tribal Council | 477 | $33,049.00 | $32,983.00 | ($66.00) | −0.2%
WA | Puyallup Tribe of Indians |  | $126,252.00 | $126,000.00 | $252.00 | −0.2%
WA | Spokane Reservation | 477 | $38,655.00 | $38,578.00 | ($77.00) | −0.2%
WA | The Tulalip Tribes | 477 | $42,820.00 | $42,735.00 | ($85.00) | −0.2%
WA | United Indians for All Tribes Foundation |  | $275,767.00 | $275,215.00 | ($552.00) | −0.2%
WA | Western WA Indian Employment and Training Program |  | $609,148.00 | $607,931.00 | ($1,217.00) | −0.2%
WI | Ho-Chunk Nation | 477 | $169,477.00 | $169,138.00 | ($339.00) | −0.2%
WI | Lac Courte Oreilles Tribal Governing Board |  | $82,295.00 | $82,131.00 | ($164.00) | −0.2%
WI | Lac Du Flambeau Band of Lake Superior Chippewa |  | $40,769.00 | $40,688.00 | ($81.00) | −0.2%
WI | Menominee Indian Tribe of Wisconsin | 477 | $95,159.00 | $94,969.00 | ($190.00) | −0.2%
WI | Oneida Tribe of Indians of WI, Inc. |  | $159,004.00 | $158,686.00 | ($318.00) | −0.2%
WI | Spotted Eagle, Inc. |  | $210,100.00 | $209,679.00 | ($421.00) | −0.2%
WI | Stockbridge-Munsee Community | 477 | $53,706.00 | $53,599.00 | ($107.00) | −0.2%
WI | Wisconsin Indian Consortium |  | $82,439.00 | $82,274.00 | ($165.00) | −0.2%
WY | Eastern Shoshone Tribe | 477 | $124,965.00 | $124,715.00 | ($250.00) | −0.2%
WY | Northern Arapaho Business Council |  | $212,482.00 | $212,057.00 | ($425.00) | −0.2%

[FR Doc. 2011-14138 Filed 6-7-11; 8:45 am]

BILLING CODE 4510-FN-P